NUCLEAR REGULATORY COMMISSION

Solicitation of Public Comments on Agency Guidelines for Ensuring Information Quality: Reopening of Comment Period

AGENCY: Nuclear Regulatory Commission (NRC).

ACTION: Reopening of comment period.

SUMMARY: On May 3, 2002, the Nuclear Regulatory Commission (NRC) published in the Federal Register (67 FR 22463) its draft Information Quality (IQ) Guidelines for public comment. The comment period expired on May 30, 2002. During this comment period, the NRC received requests to extend the comment period. In view of the importance of the IQ Guidelines, the NRC is reopening the comment period until 5:00 p.m. on June 26, 2002.

DATES: The comment period has been reopened and now expires at 5:00 p.m. on June 26, 2002. Comments received after this date and time will be considered if it is practical to do so, but the Commission is able to ensure consideration only for comments received before this date and time.

ADDRESSES: The NRC recommends that comment be submitted by e-mail, web site, or fax due to the strict time schedule indicated, but mail and delivery are acceptable if received before the date and time noted. Submit comments to Information Quality, c/o Vicki Yanez, Web, Publishing, and Distribution Services Division, Office of the Chief Information Officer, Mail Stop: T6-E7, U.S. Nuclear Regulatory Commission, Washington, DC 20555-0001, e-mail to infoquality@nrc.gov, or faxed to 301-415-5272. Comments may also be submitted at the NRC web site information quality comment form that is accessible from NRC's “Contact Us” Web page (http://www.nrc.gov/public-involve/doc-comment/info-quality/feedback-form.html). Comments may be delivered to Vicki Yanez, Two White Flint North, 11545 Rockville Pike, Rockville, Maryland, between 7:30 a.m. and 4:15 p.m. on Federal workdays and until 5 p.m. on June 26, 2002.

FOR FURTHER INFORMATION CONTACT: Vicki Yanez, Office of the Chief Information Officer, U.S. Nuclear Regulatory Commission, Washington, DC 20555-0001; telephone 301-415-6844 or by Internet electronic mail at infoquality@nrc.gov.

Dated at Rockville, Maryland, this 4th day of June 2002.
For the Nuclear Regulatory Commission.
Jacqueline Silber,
Deputy Chief Information Officer, Office of the Chief Information Officer.

[FR Doc. 02-14537 Filed 6-7-02; 8:45 am]

BILLING CODE 7590-01-P